OFFICE OF PERSONNEL MANAGEMENT

5 CFR Part 532

[Docket ID: OPM-2024-0018]

RIN 3206-AO75

Prevailing Rate Systems; Definition of Saratoga County, New York, to a Nonappropriated Fund Federal Wage System Wage Area

AGENCY: Office of Personnel Management.

ACTION: Proposed rule.

SUMMARY: The Office of Personnel Management (OPM) is proposing a rule to define Saratoga County, New York, as an area of application to the Jefferson, NY, nonappropriated fund (NAF) Federal Wage System (FWS) wage area for pay-setting purposes. This change is necessary because there is one NAF FWS employee working in Saratoga County, and the county is not currently defined to a NAF wage area.

DATES: Send comments on or before September 20, 2024.

ADDRESSES: You may submit comments, identified by docket number and/or Regulatory Information Number (RIN) and title, by the following method:

• Federal eRulemaking Portal: https://www.regulations.gov. Follow the instructions for submitting comments.

All comments received must include the agency name and docket number or RIN for this document. The general policy for comments from members of the public is to make them available for public viewing at https://www.regulations.gov without change, including any personal identifiers or contact information. However, OPM retains discretion to redact personal or sensitive information from comments before they are posted.

FOR FURTHER INFORMATION CONTACT: Ana Paunoiu, by telephone at (202) 606-2858 or by email at paypolicy@opm.gov.

SUPPLEMENTARY INFORMATION: OPM is proposing a rule that would define Saratoga County, NY, as an area of application to the Jefferson, NY, NAF FWS wage area. The Department of Defense (DOD), on behalf of the Department of the Navy (Navy), indicated that the Navy Support Facility—Saratoga Springs now has one NAF FWS employee in Saratoga County, NY.

Under section 532.219 of title 5, Code of Federal Regulations, each NAF wage area “shall consist of one or more survey areas, along with nonsurvey areas, if any, having nonappropriated fund employees.” Saratoga County does not meet the regulatory criteria under 5 CFR 532.219 to be established as a separate NAF wage area; however, nonsurvey counties may be combined with a survey area to form a wage area. Section 532.219 lists the regulatory criteria OPM considers when defining FWS wage area boundaries. This rulemaking allows consideration of the following criteria: proximity of largest activity in each county, transportation facilities and commuting patterns, and similarities of the counties in overall population, private employment in industry categories, and kinds and sizes of private industrial establishments.

Saratoga County, NY, would be defined as an area of application to the Jefferson, NY, NAF FWS wage area. The proximity criterion favors the Jefferson NAF wage area. Although the Naval Support Facility—Saratoga Springs is located approximately 147 miles from Fort Drum, the wage area's host activity, Saratoga County is adjacent to Schenectady County, NY, which is currently defined to the Jefferson wage area.

With the definition of Saratoga County to the Jefferson NAF wage area, the Jefferson wage area would contain one survey county, Jefferson County, NY, and seven area of application counties: Albany, Oneida, Onondaga, Ontario, Saratoga, Schenectady, and Steuben Counties, NY. The Federal Prevailing Rate Advisory Committee, the national labor-management committee responsible for advising OPM on matters concerning the pay of FWS employees, recommended this change by consensus. This change would be effective on the first day of the first applicable pay period beginning on or after 30 days following publication of the final regulations.

Expected Impact of This Rule

Section 5343 of title 5, U.S. Code, provides OPM with the authority and responsibility to define the boundaries of NAF FWS wage areas. Any changes in wage area definitions have the long-term effect of increasing pay for Federal employees in affected locations. OPM expects this rulemaking to impact approximately 1 NAF FWS employee. Considering the small number of employees affected, OPM does not anticipate that this proposed rule will substantially impact local economies or have a large impact in local labor markets. However, OPM is requesting comment in this rulemaking regarding the impact. As this and future wage area changes may impact higher volumes of employees in geographical areas and could rise to the level of impacting local labor markets, OPM will continue to study the implications of such impacts in this or future rules as needed.

Regulatory Review

OPM has examined the impact of this rulemaking as required by Executive Orders 12866, 13563, and 14094, which direct agencies to assess all costs and benefits of available regulatory alternatives and, if regulation is necessary, to select regulatory approaches that maximize net benefits (including potential economic, environmental, public health and safety effects, distributive impacts, and equity). OMB has determined that this rulemaking is not a “significant regulatory action” under section 3(f) of Executive Order 12866, as amended by Executive Order 14094.

Regulatory Flexibility Act

The Director of OPM certifies that this rulemaking will not have a significant economic impact on a substantial number of small entities.

Federalism

OPM has examined this rulemaking in accordance with Executive Order 13132, Federalism, and has determined that this rule will not have any negative impact on the rights, roles, and responsibilities of State, local, or tribal governments.

Civil Justice Reform

This rulemaking meets the applicable standard set forth in Executive Order 12988.

Unfunded Mandates Act of 1995

This rulemaking will not result in the expenditure by State, local, and tribal governments, in the aggregate, or by the private sector, of $100 million or more in any year and it will not significantly or uniquely affect small governments. Therefore, no actions were deemed necessary under the provisions of the Unfunded Mandates Reform Act of 1995.

Paperwork Reduction Act

This rulemaking does not impose any reporting or record-keeping requirements subject to the Paperwork Reduction Act.

List of Subjects in 5 CFR Part 532

Administrative practice and procedure, Freedom of information, Government employees, Reporting and recordkeeping requirements, Wages.

Office of Personnel Management.
Kayyonne Marston,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In Appendix D to subpart B, amend the table by revising the wage area listing for the State of New York to read as follows:

Appendix D to Subpart B of Part 532—Nonappropriated Fund Wage and Survey Areas

* * * * *

Definitions of Wage Areas and Wage Area Survey Areas

* * * * *

NEW YORK

Jefferson

Survey Area

New York:

Jefferson

Area of Application. Survey area plus:

New York:

Albany

Oneida

Onondaga

Ontario

Saratoga

Schenectady

Steuben

Kings-Queens

Survey Area

New York:

Kings

Queens

Area of Application. Survey area plus:

New Jersey:

Essex

Hudson

New York:

Bronx

Nassau

New York

Richmond

Suffolk

Niagara

Survey Area

New York:

Niagara

Area of Application. Survey area plus:

New York:

Erie

Genesee

Ohio:

Trumbull

Pennsylvania:

Erie

Orange

Survey Area

New York:

Orange

Area of Application. Survey area plus:

New York:

Dutchess

Westchester

* * * * *

[FR Doc. 2024-18741 Filed 8-20-24; 8:45 am]

BILLING CODE 6325-39-P